LIBRARY OF CONGRESS

Copyright Office

37 CFR Part 201

[Docket No. RM 2007-2]

Fees

AGENCY: Copyright Office, Library of Congress.

ACTION: Final rule; technical amendment.

SUMMARY: The Copyright Office is making a technical amendment in the regulations regarding fees for recordation of an interim or amended designation of agent to receive notification of claimed infringement under the Copyright Act.

EFFECTIVE DATE: February 8, 2007.

FOR FURTHER INFORMATION CONTACT: Tanya M. Sandros, Acting General Counsel, P.O. Box 70977, Southwest Station, Washington, DC 20024-0977. Telephone: (202) 707-8380. Telefax: (202) 252-3423.

SUPPLEMENTARY INFORMATION: Sec. 512(c) of the Copyright Act, title 17 of the United States Code, provides limitations on service provider liability for storage, at the direction of a user, of copyrighted material residing on a system or network controlled or operated by or for the service provider. The liability limitations apply if, among other things, the service provider has designated an agent to receive notifications of claimed infringement by providing contact information to the Copyright Office and by posting such information on the service provider’s publicly accessible website. In this connection, the Copyright Office maintains a directory of service providers’ designated agents.

On June 1, 2006, in accordance with the applicable provisions of title 17, the Copyright Office published a final rule adjusting the Copyright Office fees for recordation of an interim or amended designation of agent to receive notification of claimed infringement under sec. 512(c) of the Copyright Act. The June 1, 2006, final rule included the fee adjustment designation of $80.00 for recordation of an interim designation of agent to receive notification of claimed infringement under sec. 512(c) of the Copyright Act in the new § 201.3(c) fee schedule. However, other technical amendments meant to bring all fees within § 201.3 did not address recordation of an interim or amended designation of agent to receive notification of claimed infringement under sec. 512(c) of the Copyright Act. In order to correct this oversight, we are amending § § 201.38(e) and 201.38(f) to reference the established § 201.3(c) fee schedule for recordation of an interim designation of agent to receive notification of claimed infringement under sec. 512(c)(2).

Because this amendment is being issued simply for purposes of correcting an oversight associated with implementation of the new fee schedule, the Office finds that there is good cause to make the amendment effective immediately.

List of Subjects in 37 CFR Part 201

Copyright, General provisions.

Final Rule

In consideration of the foregoing, part 201 of 37 CFR, chapter II is amended in the following manner:

PART 201--GENERAL PROVISIONS

1. The authority citation for part 201 continues to read as follows:

Authority: 17 U.S.C. 702.

2. Amend § 201.38 by revising paragraphs (e) and (f) to read as follows:

§ 201.38 Designation of agent to receive notification of claimed infringement.

* * * * *

(e) Filing. A service provider may file the Interim Designation of Agent to Receive Notification of Claimed Infringement with the Public Information Office of the Copyright Office, Room LM-401, James Madison Memorial Building, Library of Congress, 101 Independence Avenue, SE, Washington, DC, during normal business hours, 9 am to 5 pm. If mailed, the Interim Designation should be addressed to: Copyright GC/I&R, PO Box 70400, Southwest Station, Washington, DC 20024. Each designation shall be accompanied by a filing fee for Recordation of an Interim Designation of Agent to Receive Notification of Claimed Infringement under section 512(c)(2) in the amount prescribed in § 201.3(c). Designations and amendments will be posted online on the Copyright Office’s website (http://www.loc.gov/copyright).

(f) Amendments. In the event of a change in the information reported in an Interim Designation of Agent to Receive Notification of Claimed Infringement, a service provider shall file with the Public Information Office of the Copyright Office an amended Interim Designation of Agent to Receive Notification of Claimed Infringement, containing the current information required by § 201.38(c). The amended Interim Designation shall be signed in accordance with the requirements of § 201.38(d) and shall be accompanied by a fee equal to the amount prescribed in § 201.3(c) for Recordation of an Interim Designation of Agent to Receive Notification of Claimed Infringement under section 512(c)(2).

* * * * *

Dated: February 2, 2007
Tanya M. Sandros
Acting General Counsel

[FR Doc. E7-2105 Filed 2-7-07; 8:45 am]

BILLING CODE 1410-30-S